DEPARTMENT OF HOUSING AND URBAN DEVELOPMENT

[Docket No. FR-5168-D-03]

Revocation and Redelegation of Authority Under Section 561 of the Housing and Community Development Act of 1987

AGENCY: Office of the Assistant Secretary for Fair Housing and Equal Opportunity, HUD.

ACTION: Notice of revocation and redelegation of authority.

SUMMARY: The Assistant Secretary for Fair Housing and Equal Opportunity (FHEO) revokes all prior redelegations of authority made within the office of the Assistant Secretary for FHEO under Section 561 of the Housing and Community Development Act of 1987, the Fair Housing Initiatives Program (FHIP), and retains and, with noted exception, redelegates this authority to the General Deputy Assistant Secretary for FHEO, who retains and further redelegates certain authority to FHEO headquarters and region office staff.

DATES: Effective Date: May 31, 2007.

FOR FURTHER INFORMATION CONTACT: Bryan Greene, Deputy Assistant Secretary for Enforcement and Programs, Office of Fair Housing and Equal Opportunity, Department of Housing and Urban Development, 451 Seventh Street, SW., Room 5204, Washington, DC 20410-0001, telephone number (202) 619-8046 (this is not a toll-free number). Hearing- and speech-impaired individuals may access this number through TTY by calling the toll-free Federal Information Relay Service at (800) 877-8339.

SUPPLEMENTARY INFORMATION: The Fair Housing Initiatives Program contained in the Housing and Community Development Act of 1987, 42 U.S.C. 3616a, authorizes the Secretary to provide funding to state and local governments or their agencies, public or private non-profit organizations or other public or private entities formulating or carrying out programs to prevent or eliminate discriminatory housing practices. This enables the recipients to carry out activities designed to obtain enforcement of the rights granted by the federal Fair Housing Act or by substantially equivalent state or local fair housing laws. This also enables the recipients to carry out education and outreach activities designed to inform the public of their rights and obligations under such federal, state or local laws prohibiting discrimination. By regulation, the Secretary has delegated to the Assistant Secretary for FHEO the authority to administer the Fair Housing Initiatives Program (24 CFR 125.104(a)). By previous redelegation, the Assistant Secretary for FHEO redelegated certain authority under the FHIP (68 FR 45843). Since that time, the FHEO Hub Directors' title has been changed to FHEO Region Directors. Through this notice, the Assistant Secretary for FHEO revokes all previous redelegations under FHIP within the Office of Fair Housing and Equal Opportunity, and retains and, with noted exception, redelegates authority to certain FHEO headquarters and region staff.

Accordingly, the Assistant Secretary for FHEO and the General Deputy Assistant Secretary for FHEO redelegate authority as follows:

Section A. Authority Redelegated

The Assistant Secretary for FHEO retains and, with certain exceptions, noted in Section B, redelegates to the General Deputy Assistant Secretary for FHEO the authority to act under Section 561 of the Housing and Community Development Act of 1987 (Pub. L. 100-242, February 5, 1988). This includes authority to further redelegate this authority.

The General Deputy Assistant Secretary, in turn, retains and with exceptions noted in Section B herein redelegates this authority to the Deputy Assistant Secretary for Enforcement and Programs, Director of the Office of Programs and the FHEO Region Directors.

Section B. Authority Excepted

The authority redelegated by the Assistant Secretary for FHEO does not include the authority to issue or waive regulations, including authority to waive portions of the FHIP regulation pursuant to 24 CFR 125.106.

The authority redelegated in this notice by the General Deputy Assistant Secretary for FHEO, does not include the authority to determine the appropriate reporting and record maintenance, as provided in 24 CFR 125.104(e).

Section C. Authority Revoked

All prior redelegations of authority made within the Office of the Assistant Secretary for FHEO regarding Section 561 of the Housing and Community Development Act of 1987, the Fair Housing Initiatives Program, are revoked, including the August 4, 2003 redelegation published at 68 FR 45843.

Section D. Authority To Redelegate

The authority redelegated from the General Deputy Assistant Secretary, to the Deputy Assistant Secretary for Enforcement and Programs, FHEO Region Directors and the Director of the Office of Programs may not be further redelegated.

Authority: Section 7(d) of the Department of Housing and Urban Development Act (42 U.S.C. 3535(d)).

Dated: May 31, 2007.
Kim Kendrick,
Assistant Secretary for Fair Housing and Equal Opportunity.
Cheryl L. Ziegler,
General Deputy Assistant Secretary for Fair Housing and Equal Opportunity.

Editorial Note: This document was received at the Office of the Federal Register on December 12, 2007.

[FR Doc. E7-24319 Filed 12-14-07; 8:45 am]

BILLING CODE 4210-67-P